DEPARTMENT OF EDUCATION

Proposed Waivers for the Comprehensive Centers Program and Funding of Continuation Grants

AGENCY: Office of Elementary and Secondary Education.

ACTION: Notice.

SUMMARY: The Secretary proposes to waive the requirements in 34 CFR 75.250 and 75.261(c)(2) of the Education Department General Administrative Regulations (EDGAR) that, respectively, generally prohibit project periods exceeding five years and project period extensions involving the obligation of additional Federal funds. The proposed waivers would enable the 21 current eligible grantees under the Comprehensive Centers program to continue to receive Federal funding beyond the five-year limitation contained in 34 CFR 75.250.

DATES: We must receive your comments on or before April 19, 2010.

ADDRESSES: Address all comments about these proposed waivers to Frances Walter, U.S. Department of Education, 400 Maryland Ave., SW., Room 3W113, Washington, DC 20202-2800. You may provide comments by e-mail addressed to fran.walter@ed.gov. You must include the term “Comprehensive Centers Program Waivers” in the subject line of your electronic message.

FOR FURTHER INFORMATION CONTACT: Frances Walter. Telephone: (202) 205-9198 or via Internet: Fran.walter@ed.gov.

If you use a telecommunications device for the deaf (TDD), call the Federal Relay Service (FRS), toll-free, at 1-800-877-8339.

Individuals with disabilities can obtain this document in an accessible format (e.g., Braille, large print, audiotape, or computer diskette) on request to the contact person listed under FOR FURTHER INFORMATION CONTACT.

SUPPLEMENTARY INFORMATION:

Invitation To Comment

We invite you to submit comments regarding this notice of proposed waivers.

During and after the comment period, you may inspect all public comments about this notice of proposed waivers in Room 3W113, 400 Maryland Avenue, SW., Washington, DC, between the hours of 8:30 a.m. and 4:00 p.m., Washington, DC time, Monday through Friday of each week, except Federal holidays.

Assistance to Individuals With Disabilities in Reviewing the Rulemaking Record

On request, we will supply an appropriate aid, such as a reader or print magnifier, to an individual with a disability who needs assistance to review the comments or other documents in the public rulemaking record for these proposed waivers. If you want to schedule an appointment for this type of aid, please contact the person listed under FOR FURTHER INFORMATION CONTACT.

Background

Under the Comprehensive Centers program, the Department supports grants to operate regional technical assistance centers and national content centers as authorized by sections 203 through 207 of the Educational Technical Assistance Act of 2002 (ETAA) (20 U.S.C. 9602). The purpose of these centers is to provide technical assistance to States as States work to help local educational agencies (LEAs) and schools to close achievement gaps in core content areas and raise student achievement in schools, especially to help those in need of improvement (as defined by section 1116(b) of the Elementary and Secondary Act of 1965, as amended (ESEA)) in implementing the school improvement provisions under section 1116 of the ESEA.

Eligible applicants for Comprehensive Center grants are research organizations, institutions, agencies, institutions of higher education, partnerships among such entities, or individuals, with the demonstrated ability or capacity to carry out the activities described in the notice inviting applications published in the Federal Register on June 3, 2005 (70 FR 53283) and corrected on June 20, 2005 (70 FR 35415).

We do not believe it would be in the public interest to hold new competitions under the Comprehensive Centers program until after the Congress has completed the process of reauthorizing the ESEA and the ETAA since the primary work of the Comprehensive Centers is to help States, LEAs, and schools implement key school improvement provisions of the ESEA. We also have concluded that it would be contrary to the public interest to have a lapse in Comprehensive Centers projects pending these reauthorizations. For these reasons, the Secretary proposes to waive the requirements in 34 CFR 75.250, which prohibit project periods exceeding five years, and the requirements in 34 CFR 75.261(c)(2), which limit the extension of a project period if the extension involves the obligation of additional Federal funds. With these waivers: (1) Current Comprehensive Centers grantees would receive FY 2010 funds and continue to operate through FY 2011 and possibly beyond, if Congress continues to appropriate funds for that purpose, and (2) we would not announce a new competition or make new awards under the Comprehensive Centers program in FY 2010.

The proposed waivers of 34 CFR 75.250 and 75.261(c)(2) would not affect the applicability of the requirements in 34 CFR 75.253 (continuation of a multi-year project after the first budget period) to any current Comprehensive Centers grantee that receives a continuation award as a result of the waivers.

In addition, these proposed waivers would not exempt current Comprehensive Centers grantees from the account-closing provisions in 31 U.S.C. 1552(a), nor would they extend the availability of funds previously awarded to current Comprehensive Centers grantees. Under 31 U.S.C. 1552(a), appropriated funds may be used for payment of valid obligations for only five years after the expiration of their period of availability for Federal obligation. After that time, the unexpended balance of those funds is canceled and returned to the U.S. Treasury Department and is unavailable for restoration for any purpose. The waivers proposed in this notice would not change this requirement.

Making these waivers, therefore, would ensure that the important services provided by the current Comprehensive Centers grantees can be continued, as the Department works on reauthorization of the ETAA and ESEA and designs a Comprehensive Centers program that is clearly aligned with the Department's technical assistance priorities. During this interim period the activities of the current Comprehensive Centers grantees would be modified to support the Department's technical assistance priorities.

We will announce the final waivers, if any, in a notice in the Federal Register. We will determine the final waivers after considering responses to this notice and other information available to the Department.

Proposed Waivers—Comprehensive Centers Program

The Secretary proposes to waive the requirements in 34 CFR 75.250 and 75.261(c)(2), which prohibit project periods exceeding five years and extensions of project periods that involve the obligation of additional Federal funds, for the current Comprehensive Centers grantees.

Regulatory Flexibility Act Certification

The Secretary certifies that these proposed waivers would not have a significant economic impact on a substantial number of small entities.

The small entities that would be affected by these proposed waivers are:

(a) The FY 2005 grantees currently receiving Federal funds; and

(b) The entities that are eligible for an award under the Comprehensive Centers program (i.e., research organizations, institutions, agencies, institutions of higher education, partnerships among such entities, or individuals, with the demonstrated ability or capacity to carry out the activities described in the notice inviting applications published in the Federal Register on June 3, 2005 (70 FR 53283) and corrected on June 20, 2005 (70 FR 35415)).

The Secretary certifies that the proposed waivers would not have a significant economic impact on these entities because the proposed waivers and the activities required to support the additional years of funding would not impose excessive regulatory burdens or require unnecessary Federal supervision. The proposed waivers would impose minimal requirements to ensure the proper expenditure of program funds, including requirements that are standard for continuation awards.

Paperwork Reduction Act of 1995

This notice of proposed waivers does not contain any information collection requirements.

Intergovernmental Review

This program is subject to Executive Order 12372 and the regulations in 34 CFR 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: www.ed.gov/news/fedregister/index.html.

To use PDF you must have Adobe Acrobat Reader, which is available free at this site.

Note: The official version of this document is the document published in the Federal Register. Free Internet access to the official edition of the Federal Register and the Code of Federal Regulations is available on GPO Access at: www.gpoaccess.gov/nara/index.html.

(Catalog of Federal Domestic Assistance Number 84.283B, Comprehensive Centers Program).

Program Authority: 20 U.S.C 99601-99608.

Dated: March 12, 2010.
Thelma Meléndez de Santa Ana,
Assistant Secretary for Elementary and Secondary Education.

[FR Doc. 2010-5978 Filed 3-17-10; 8:45 am]

BILLING CODE 4000-01-P